DEPARTMENT OF STATE

[Public Notice 10364]

Town Hall Meeting on Modernizing the Columbia River Treaty Regime

AGENCY: Department of State.

ACTION: Notice of meeting.

SUMMARY: The Department of State (Department) will hold a town hall meeting in Spokane, Washington, to discuss the modernization of the Columbia River Treaty (CRT) regime.

DATES: The meeting will be held on April 25, 2018, from 5:00 p.m. to approximately 7:00 p.m., Pacific Time.

ADDRESSES: The meeting will be held in the Isabella Room of the Historic Davenport Hotel, 10 South Post Street, Spokane, Washington 99201.

FOR FURTHER INFORMATION CONTACT: Susan May, ColumbiaRiverTreaty@state.gov, 202-647-2228.

SUPPLEMENTARY INFORMATION: This Town Hall will initiate the Department's public engagement on the modernization of the CRT regime. The meeting is open to the public, up to the capacity of the room. Requests for reasonable accommodation should be made to the email listed above, on or before April 18, 2018. The Department will consider requests made after that date, but might not be able to accommodate them. Information regarding the proposed agenda, and other information about the meeting, can be found at on www.state.gov or by emailing the email address listed above.

Cynthia A. Kierscht,
Director, Office of Canadian Affairs, Department of State.

[FR Doc. 2018-06612 Filed 3-30-18; 8:45 am]

BILLING CODE 4710-29-P